DEPARTMENT OF THE INTERIOR

Bureau of Ocean Energy Management

30 CFR Parts 550, 551, 556, 581, 582 and 585

[Docket ID: BOEM-2013-0058; MMAA104000]

RIN 1010-AD83

Risk Management, Financial Assurance and Loss Prevention

AGENCY: Bureau of Ocean Energy Management (BOEM), Interior.

ACTION: Advance Notice of Proposed Rulemaking—Extension of Public Comment Period.

SUMMARY: BOEM has recognized the need to develop a comprehensive program to assist in identifying, prioritizing, and managing the risks associated with industry activities on the Outer Continental Shelf (OCS). BOEM intends to design and implement a more robust and comprehensive risk management, financial assurance and loss prevention program to address the complex issues and cost differences associated with offshore operations. As part of its overall effort to establish this program and associated changes to regulations, BOEM is seeking stakeholder comments regarding various risk management and monitoring activities pertaining to financial risks to taxpayers that may result from activities on the OCS.

BOEM currently requires lessees to provide performance bonds and/or one of various alternative forms of financial assurance to ensure compliance with the terms and conditions of leases, Rights-of-Use and Easements and Pipeline Rights-of-Way. BOEM is seeking comments on who is best suited to mitigate risks and whether other forms of financial assurance should be used, as well as whether, or to what extent, the current forms of financial assurance are adequate and appropriate.

BOEM has received comments to its Advance Notice of Proposed Rulemaking (ANPR) indicating that the number of issues being addressed and the complexity of the topics being considered would justify a longer comment period. Various groups have also requested that additional time be provided to review and analyze the ANPR. For these reasons, BOEM has agreed to extend the comment period by an additional 30 days. The new comment period will elapse 90 days from August 19, 2014, the date of the original of publication of the ANPR.

DATES: BOEM published the ANPR on August 19, 2014 (79 FR 49027) with a sixty day comment period. With this extension, comments must be received by November 17, 2014.

ADDRESSES: You may submit comments on the rulemaking by any of the following methods. Please use the Regulation Identifier Number (RIN) 1010-AD83 as an identifier in your submission.

• Federal eRulemaking Portal: http://www.regulations.gov. In the entry entitled, “Enter Keyword or ID,” enter BOEM-2013-0058, then click search. Follow the instructions to submit public comments and view supporting and related materials available for this rulemaking. BOEM will post all comments received during the comment period.

• Mail or hand-carry comments to the Department of the Interior; Bureau of Ocean Energy Management; Attention: Terry Scholten at terry.scholten@boem.gov (504-810-2078) or Donna Dixon at Donna.Dixon@boem.gov (504-731-1527), or by mail at 1201 Elmwood Park Boulvard, GM364D, New Orleans, LA 70123. For issues related to the rulemaking process or timetable, contact Peter Meffert at peter.meffert@boem.gov (703-787-1610), or by mail at 381 Elden Street, Herndon, VA 20170. Please reference “Risk Management, Financial Assurance and Loss Prevention.”

• In your comments include your name and return address so that we may contact you if we have questions regarding your submission.

Public Availability of Comments: Before including your address, phone number, email address, or other personal identifying information in your comment, you should be aware that your entire comment—including your personal identifying information—may be made publicly available at any time. While you can ask us in your comment to withhold your personal identifying information from public review, we cannot guarantee that we will be able to do so.

FOR FURTHER INFORMATION CONTACT: Questions regarding the risk management, financial assurance or loss prevention aspects of this ANPR should be directed to Terry Scholten or Donna Dixon, using the contact information listed above.

Dated: September 30, 2014.
Janice M. Schneider,
Assistant Secretary—Land and Minerals Management.

[FR Doc. 2014-24165 Filed 10-8-14; 8:45 am]

BILLING CODE 4310-MR-P